DEPARTMENT OF LABOR

Employment and Training Administration

[TA-W-61,313]

Circa 1801 Doblin, a Subsidiary of Joan Fabrics Corporation, EBM Textiles, LLC Division, Now Known as Valdese Weavers, Connelly Springs, NC; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on May 23, 2007, applicable to workers of Circa 1801 Doblin, a subsidiary of Joan Fabrics Corporation, EBM Textiles, LLC Division, Connelly Springs, North Carolina. The notice was published in the Federal Register on June 7, 2007 (72 FR 31615).

At the request of a company official, the Department reviewed the certification for workers of the subject firm. The workers are engaged in the production of woven fabric, used primarily for upholstery.

New information shows that following a change in ownership, Circa 1801 Doblin, a subsidiary of Joan Fabrics Corporation, EBM Textiles, LLC Division, is now known as Valdese Weavers.

Workers separated from employment at the subject firm had their wages reported under a separate unemployment insurance (UI) tax account for Valdese Weavers.

Accordingly, the Department is amending this certification to properly reflect this matter.

The intent of the Department's certification is to include all workers of Circa 1801 Doblin, a subsidiary of Joan Fabrics Corporation, EBM Textiles, LLC Division, now known as Valdese Weavers, who were adversely affected by increased customer imports.

The amended notice applicable to TA-W-61,313 is hereby issued as follows:

“All workers of Circa 1801 Doblin, a subsidiary of Joan Fabrics Corporation, EBM Textiles, LLC Division, now known as Valdese Weavers, Connelly Springs, North Carolina, who became totally or partially separated from employment on or after April 13, 2006, through May 23, 2009, are eligible to apply for adjustment assistance under section 223 of the Trade Act of 1974, and are also eligible to apply for alternative trade adjustment assistance under section 246 of the Trade Act of 1974.”

Signed at Washington, DC, this 26th day of July, 2007.
Elliott S. Kushner,
Certifying Officer, Division of Trade Adjustment Assistance.

[FR Doc. E7-15006 Filed 8-1-07; 8:45 am]

BILLING CODE 4510-FN-P